MERIT SYSTEMS PROTECTION BOARD

Sunshine Act Meeting

AGENCY: Merit Systems Protection Board.

ACTION: Notice.

SUMMARY: Pursuant to the Government in the Sunshine Act (5 U.S.C. 552(b), notice is hereby given that the Merit Systems Protection Board is holding a closed meeting on November 29, 2001, at 2:00 p.m., in the Board's conference room at 1615 M Street, NW., 6th Floor, Washington, DC 20419. In calling the meeting, the Board determined that the public interest does not require consideration of the matter in a meeting open to public observation and that the matter could be considered by authority of subsection (c)(10) of the “Government in the Sunshine Act” (5 U.S.C. 552b(c)(10)).

MATTER TO BE CONSIDERED: Strategies for moving overage cases.

CONTACT PERSON FOR ADDITIONAL INFORMATION: Shannon McCarthy or Matthew Shannon, Office of the Clerk of the Board, (202) 653-7200.

Dated: November 20, 2001.
Robert E. Taylor,
Clerk of the Board.

[FR Doc. 01-29499 Filed 11-21-01; 2:14 pm]

BILLING CODE 7400-01-M